ENVIRONMENTAL PROTECTION AGENCY

40 CFR Part 180

[EPA-HQ-OPP-2015-0032; FRL-9956-86]

Receipt of Several Pesticide Petitions Filed for Residues of Pesticide Chemicals in or on Various Commodities

AGENCY: Environmental Protection Agency (EPA).

ACTION: Notice of filing of petitions and request for comment.

SUMMARY: This document announces EPA's receipt of several initial filings of pesticide petitions requesting the establishment or modification of regulations for residues of pesticide chemicals in or on various commodities.

DATES: Comments must be received on or before March 9, 2017.

ADDRESSES: Submit your comments, identified by the Docket Identification (ID) Number and the Pesticide Petition Number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Robert McNally, Biopesticides and Pollution Prevention Division (BPPD) (7511P), main telephone number: (703) 305-7090, email address: BPPDFRNotices@epa.gov; or Michael Goodis, Registration Division (RD) (7505P), main telephone number: (703) 305-7090, email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, EPA seeks information on any groups or segments of the population who, as a result of their location, cultural practices, or other factors, may have atypical or disproportionately high and adverse human health impacts or environmental effects from exposure to the pesticides discussed in this document, compared to the general population.

II. What action is EPA taking?

EPA is announcing its receipt of several pesticide petitions filed under section 408 of the Federal Food, Drug, and Cosmetic Act (FFDCA), 21 U.S.C. 346a, requesting the establishment or modification of regulations in 40 CFR part 180 for residues of pesticide chemicals in or on various food commodities. EPA is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

New Tolerances

1. PP 6E8495. (EPA-HQ-OPP-2016-0661). Taminco US LLC, a subsidiary of Eastman Chemical Company, Two Windsor Plaza, Suite 400, 7540 Windsor Dr., Allentown, PA 18195, requests to establish tolerances in 40 CFR part 180 for residues of the plant regulator chlormequat chloride in or on barley grain at 3 parts per million (ppm); bovine, sheep, goat-fat at 0.06 ppm; bovine, sheep, goat-kidney at 0.5 ppm; bovine, sheep, goat-liver at 0.15 ppm; bovine, sheep, goat-muscle at 0.2 ppm; cattle-milk at 0.5 ppm; eggs at 0.1 ppm; oat grain at 15 ppm; poultry-fat at 0.03 ppm; poultry-liver at 0.1 ppm; poultry-muscle at 0.04 ppm; swine-fat at 0.02 ppm; swine-kidney at 0.5 ppm; swine-liver at 0.15 ppm; swine-muscle at 0.2 ppm; and wheat grain at 4 ppm. The Liquid Chromatography with tandem Mass Spectrometry (LC-MS/MS) method is used to measure and evaluate the chemical chlormequat chloride. Contact: RD.

2. PP 6F8445. (EPA-HQ-OPP-2016-0254). Syngenta Crop Protection, LLC, P.O. Box 18300, Greensboro, NC 27419, requests to establish tolerances in 40 CFR 180.475 for residues of the fungicide difenoconazole in or on cottonseed subgroup 20C at 0.40 ppm; rice, grain at 7 ppm; and rice, wild, grain at 7 ppm. Gas chromatography equipped with a nitrogen-phosphorous detector or liquid chromatography (LC)/mass spectrometry (MS)/(MS) is used to measure and evaluate the chemical difenoconazole. Contact: RD.

3. PP 6F8457. (EPA-HQ-OPP-2016-0263). ISK Biosciences Corporation, 7470 Auburn Rd., Suite A, Concord, OH, 44077, requests to establish tolerances in 40 CFR 180.681 for residues of the fungicide isofetamid in or on apple, wet pomace, at 2.0 ppm; bushberry, subgroup 13-07B at 6.0 ppm; caneberry, subgroup 13-07A at 3.0 ppm; cattle fat and meat byproducts at 0.01 ppm; cherry subgroup 12-12A at 5.0 ppm; fruit, pome group 11-10 at 0.6 ppm; fruit, small vine climbing, except grape, subgroup 13-07E at 9.0 ppm; goat fat and meat byproducts at 0.01 ppm; horse fat and meat byproducts at 0.01 ppm; pea and bean, dried shelled, except soybean, subgroup 6C, except cowpea and field pea at 0.05 ppm; pea and bean, succulent shelled, subgroup 6B, except cowpea at 0.04 ppm; peach, subgroup 12-12B at 3.0 ppm; plum, prune, dried at 3.5 ppm; plum subgroup 12-12C at 0.8 ppm; sheep fat and meat byproducts at 0.01 ppm; and vegetable, legume edible podded, subgroup 6A at 1.5 ppm. The LC-MS/MS method is used to measure and evaluate the chemical isofetamid, N-[1,1-dimethyl-2-[2-methyl-4-(1-methylethoxy)phenyl]-2-oxoethyl]-3-methyl-2-thiophenecarboxamide (CA), and its metabolite GPTC, N-[1,l-dimethyl-2-(4-β-D-glucopyranosyloxy-2-methylphenyl)-2-oxoethyl]-3-methyl-2-thiophenecarboxamide, expressed as isofetamid. Contact: RD

4. PP 6F8474. (EPA-HQ-OPP-2015-0775). Syngenta Crop Protection, LLC, P.O. Box 18300, Greensboro, NC 27419, requests to establish tolerances in 40 CFR part 180 for residues of the fungicide pydiflumetofen in or on Barley, grain at 4.0 ppm; Barley, hay at 30.0 ppm; Barley, straw at 30.0 ppm; Corn, field, grain at 0.015 ppm; Corn, field, forage at 6.0 ppm; Corn, field, stover at 15.0 ppm; Corn, field, milled by products at 0.06 ppm; Corn, pop, grain at 0.015 ppm; Corn, pop, forage at 6.0 ppm; Corn, pop, stover at 15.0 ppm; Corn, sweet, ear at 0.01 ppm; Corn, sweet, forage at 5.0 ppm; Corn, sweet, stover at 9.0 ppm; Corn, sweet, cannery waste at 2.0 ppm; Crop Subgroup 4-15A, Leafy greens subgroup at 40.0 ppm; Crop Subgroup 22B, Leaf petiole vegetable subgroup at 15.0 ppm; Fruits, small vine climbing, except fuzzy kiwi subgroup 13-07F at 1.5 ppm; Grape, raisin at 2.0 ppm; Grape, wet pomace at 1.5 ppm; Grain, aspirated fractions at 100.0 ppm; Grain, cereal, forage, fodder and straw, group 16 at 50 ppm; Oat, grain at 2.0 ppm; Oat, forage at 10.0 ppm; Oat, hay at 40.0 ppm; Oat, straw at 20.0 ppm; Peas and bean, dried shelled, except soybean, subgroup 6C at 0.4 ppm; Peas, hay at 40.0 ppm; Peas, vine at 6.0 ppm; Peanut, nutmeat at 0.02 ppm; Peanut, refined oil at 0.05 ppm; Peanut, hay at 20.0 ppm; Potato, wet peel at 0.03 ppm; Potato, dried pulp at 0.05 ppm; Potato, processed waste at 0.03 ppm; Quinoa, grain at 4.0 ppm; Rapeseed, subgroup 20A at 0.9 ppm; Rye, grain at 4.0 ppm; Rye, hay at 50.0 ppm; Rye, straw at 30.0 ppm; Soybean, seed at 0.4 ppm; Soybean, forage at 30.0 ppm; Soybean, hay at 150 ppm; Tomato, dried pomace at 15.0 ppm; Tomato, wet pomace at 1.5 ppm; Tomato, sun-dried at 3.0 ppm; Vegetables, fruiting, crop group 8-10 at 0.6 ppm; Vegetables, tuberous and corm subgroup 1C at 0.015 ppm; Vegetables, cucurbit, crop group 9 at 0.5 ppm; Wheat, grain at 0.3 ppm; Wheat, forage at 15.0 ppm; Wheat, hay at 50.0 ppm; and Wheat, straw at 30.0 ppm. The method GRM061.03A is used to measure and evaluate the chemical pydiflumetofen. Contact: RD.

5. PP 6F8474. (EPA-HQ-OPP-2015-0775). Syngenta Crop Protection, LLC, P.O. Box 18300, Greensboro, NC 27419, requests to establish tolerances in 40 CFR part 180 for residues of the fungicide pydiflumetofen in or on cattle, fat at 0.03 ppm; cattle, kidney at 0.02 ppm; cattle, liver at 0.04 ppm; cattle, meat at 0.02 ppm; cattle, byproducts at 0.04 ppm; goat, fat at 0.03 ppm; goat, kidney at 0.02 ppm; goat, liver at 0.04 ppm; goat, meat at 0.02 ppm; goat, meat byproducts at 0.04 ppm; horse, fat at 0.03 ppm; horse, kidney at 0.02 ppm; horse, liver at 0.04 ppm; horse, meat at 0.02 ppm; horse, meat byproducts at 0.04 ppm; milk at 0.02 ppm; milk, cream at 0.04 ppm; sheep, fat at 0.03 ppm; sheep, kidney at 0.02 ppm; sheep, liver at 0.04 ppm; sheep, meat at 0.02 ppm; and sheep, meat byproducts at 0.04 ppm. The method GRM061.07A for animal products is used to measure and evaluate the chemicals pydiflumetofen and 2,4,6 trichlorophenol (free and conjugated) for the purposes of post-registration monitoring. Contact: RD.

Amended Tolerance

1. PP 6F8445. (EPA-HQ-OPP-2016-0254). Syngenta Crop Protection, LLC, P.O. Box 18300, Greensboro, NC 27419, requests to amend the tolerance in 40 CFR 180.475 for residues of the fungicide difenoconazole in or on cotton, gin byproducts to 15 ppm. Gas chromatography equipped with a nitrogen-phosphorous detector or liquid chromatography (LC)/mass spectrometry (MS)/(MS) is used to measure and evaluate the chemical difenoconazole (1-[2-[2-chloro-4-(4-chlorophenoxy)phenyl]-4-methyl-1,3-dioxolan-2-ylmethyl]-1H-1,2,4-triazole). Contact: RD.

New Tolerance Exemptions

1. PP IN-10964. (EPA-HQ-OPP-2016-0507). Lewis & Harrison, LLC, 122 C St. NW., Suite 505, Washington, DC 20001 (on behalf of Wacker Chemie AG, Hanns-Seidel-Platz 4, D-81737 Munich, Germany), requests to establish an exemption from the requirement of a tolerance for residues of β-cyclodextrin, methyl ethers (CAS Reg. No. 128446-36-6) when used as a pesticide inert ingredient (stabilizing agent, solvent) at a concentration of not more than 40% by weight in pesticide formulations applied to growing crops under 40 CFR 180.920. The petitioner believes no analytical method is needed because it is not required for an exemption from the requirement of a tolerance. Contact: RD.

2. PP IN-10981. (EPA-HQ-OPP-2016-0616). Spring Trading Company, LLC, on behalf of BASF Corporation, 100 Park Ave., Florham Park, NJ 07932, requests to establish an exemption from the requirement of a tolerance for residues of polyethyleneimine (CAS Reg. No. 9002-98-6) when used as a pesticide inert ingredient in pesticide formulations applied to growing crops or to raw agricultural commodities after harvest under 40 CFR 180.910. The petitioner believes no analytical method is needed because it is not required for an exemption from the requirement of a tolerance. Contact: RD.

3. PP 6F8490. (EPA-HQ-OPP-2016-0687). BASF Corporation, 26 Davis Dr., P.O. Box 13528, Research Triangle Park, NC 27709, requests to establish an exemption from the requirement of a tolerance in 40 CFR part 180 for residues of the fungicide Bacillus subtilis strain BU1814 in or on all food commodities. The petitioner believes no analytical method is needed because it is expected that, when used as proposed, Bacillus subtilis strain BU1814 would not result in residues in or on food that are of toxicological concern. Contact: BPPD.

4. PP 6F8508. (EPA-HQ-OPP-2016-0641). Technology Sciences Group, Inc., 1150 18th St. NW., Suite 1000, Washington, DC 20036 (on behalf of Bee Vectoring Technology, Inc., 4160 Sladeview Crescent #7, Mississauga, Ontario L5L 0A1, Canada), requests to establish an exemption from the requirement of a tolerance in 40 CFR part 180 for residues of the fungicide Clonostachys rosea strain CR-7 in or on all food commodities. The petitioner believes no analytical method is needed because it is expected that, when used as proposed, Clonostachys rosea strain CR-7 would not result in residues that are of toxicological concern. Contact: BPPD.

Authority: 21 U.S.C. 346a.

Dated: December 28, 2016.
Robert McNally,
Director, Biopesticides and Pollution Prevention Division, Office of Pesticide Programs.

[FR Doc. 2017-02475 Filed 2-6-17; 8:45 am]

BILLING CODE 6560-50-P